TENNESSEE VALLEY AUTHORITY

Meeting of the Regional Resource Stewardship Council

AGENCY: Tennessee Valley Authority (TVA).

ACTION: Notice of meeting.

SUMMARY: The TVA Regional Resource Stewardship Council (RRSC) will hold a virtual meeting on August 13, 2024, to kick off the 13th term of the RRSC. The Council will receive updates about TVA's work in Natural Resources, River Management, and Cultural Compliance. RRSC members will also hear an update on the development of TVA's Integrated Resource Plan (IRP).

DATES: The meeting will be held virtually via webinar, on Tuesday, August 13, 2024, from 1 p.m. to 5 p.m. EST. The public must register to attend the webinar. You may register by going to www.tva.com/rrsc. A 30-minute public listening session for the public to present comments during the webinar will be held August 13, 2024, at 2 p.m. ET. Persons who wish to speak during the public listening session must pre-register by 5 p.m. ET Friday, August 9, 2024, by emailing bhaliti@tva.gov.

ADDRESSES: The meeting will be fully virtual, and the meeting link is provided at www.tva.com/rrsc. Anyone needing special accommodations should let the contact below know at least one week in advance.

FOR FURTHER INFORMATION CONTACT: Bekim Haliti, bhaliti@tva.gov or 931-349-1894.

SUPPLEMENTARY INFORMATION: The RRSC is a discretionary advisory committee established under the authority of the Tennessee Valley Authority (TVA) in accordance with the provisions of the Federal Advisory Committee Act (FACA), as amended, 5 U.S.C. app. 2.

The meeting agenda includes the following:

August 13

1. Welcome and Introductions

2. Public Listening Session

3. River Management Update

4. Natural Resources Update

5. Cultural Compliance Update

6. IRP Development Update

The RRSC will hear views of citizens by providing a 30-minute public comment session starting August 13 at 2 p.m. ET. Persons registered will be called on during the public listening session to share their views for up to five minutes, depending on the number of registrants. Persons wishing to speak virtually must register by sending an email to bhaliti@tva.gov or by calling 931-349-1894 by 5 p.m. ET, on Friday, August 9, 2024. Written comments are invited and may be emailed to bhaliti@tva.gov.

The DFO of the Tennessee Valley Authority and Vice President of External Strategy and Regulatory Oversight, Melanie Farrell, having reviewed and approved this document, is delegating the authority to sign this document to Bekim Haliti, Specialist of Valley Alliances for publication in the Federal Register.

Dated: July 26, 2024.
Bekim Haliti,
Specialist, Valley Alliances, Tennessee Valley Authority.

[FR Doc. 2024-16826 Filed 7-30-24; 8:45 am]

BILLING CODE 8120-08-P